DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census Employment Inquiry.

Form Number(s): BC-170A, BC-170B, BC-170D.

OMB Control Number: 0607-0139.

Type of Request: Revision of a currently approved collection.

Burden Hours: 250,000.

Number of Respondents: 1,000,000.

Average Hours per Response: 15 minutes.

Needs and Uses: The Census Bureau requests continued OMB approval for the BC-170A, BC-170B, and the BC-170D, Census Employment Inquiry forms for Field Division.

The BC-170 is used throughout the census and intercensal periods for the special census, pretests, and dress rehearsals for short-term time limited appointments. Applicants completing the form for a census related position are applying for temporary jobs in office and field positions, such as clerks, enumerators, crew leaders, and supervisors. In addition, as an option to the OF-612, Optional Application for Federal Employment, the BC-170 may be used when applying for temporary/permanent office and field positions, such as clerks, field representatives, and supervisors on a recurring survey in one of the Census Bureau's 12 Regional Offices (ROs) throughout the United States.

During the decennial census, the BC-170 is intended to expedite hiring and selection in situations requiring large numbers of temporary employees for assignments of a limited duration. The use of this form is limited to only situations which require the establishment of a temporary office and/or involve special, one-time or recurring survey operations at one of the ROs. The form has been demonstrated to meet our recruitment needs for temporary workers and requires significantly less burden than the Office of Personnel Management (OPM) Optional Forms that are available for use by the public when applying for federal positions. For the 2010 Census, Census expect to recruit 3,000,000 applicants for jobs.

The recurring survey form is identified as the BC-170A. The form for special censuses is identified as the BC-170B, and the form for decennial as the BC-170D. The variation of forms by operation, is to collect specific data needed based on the nature of the operation. The major area of difference relates to the collection of work history. A cover sheet will be attached to each respective BC-170 to provide applicants with a brief description of their prospective job duties with the Census Bureau; the cover sheet message will vary for decennial, special censuses, or recurring survey positions. The modified cover sheet is attached to each form.

The changes to the forms for this period included updating the identification that is allowed to be used as employment eligibility verification, the addition of place of birth, and the collection of the name of the educational institution the applicant attended.

The BC-170 (A, B, and D) is completed by job applicants before or at the time they are tested. Selecting officials will review the information shown on the form and determine the applicant's employment suitability. Failure to collect this information could result in the hiring of unsuitable and/or unqualified workers.

Affected Public: Individuals or households.

Frequency: On occasion.

Respondent's Obligation: Required to obtain or retain benefits.

Legal Authority: Title 13, United States Code, Section 23 a and c.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at: dhynek@doc.gov).

Written comments and recommendations for the proposed information collection should be sent within 30 days of publication of this notice to Brian Harris-Kojetin, OMB Desk Officer either by fax (202-395-7245) or e-mail (bharrisk@omb.eop.gov).

Dated: March 18, 2008.
Gwellnar Banks,
Management Analyst, Office of the Chief Information Officer.

[FR Doc. E8-5826 Filed 3-21-08; 8:45 am]

BILLING CODE 3510-07-P